DEPARTMENT OF THE INTERIOR

Fish and Wildlife Service

[FWS-R3-ES-2012-N306: FXES11130300000F3-234-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications to conduct certain activities with endangered species. With some exceptions, the Endangered Species Act (Act) prohibits activities with endangered and threatened species unless a Federal permit allows such activity. The Act requires that we invite public comment before issuing these permits.

DATES: We must receive any written comments on or before February 25, 2013.

ADDRESSES: Send written comments by U.S. mail to the Regional Director, Attn: Lisa Mandell, U.S. Fish and Wildlife Service, Ecological Services, 5600 American Blvd. West, Suite 990, Bloomington, MN 55437-1458; or by electronic mail to permitsR3ES@fws.gov.

FOR FURTHER INFORMATION CONTACT: Lisa Mandell, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE049738

Applicant: Third Rock Consultants, LLC, Lexington, KY

The applicant requests a permit renewal to take (capture and release) the Indiana bat (Myotis sodalis), gray bat (Myotis grisescens), Virginia big-eared bat (Corynorhinus townsendii virginianus), Ozark big-eared bat (Corynorhinus townsendii ingens), and American burying beetle (Nicrophorus americanus), and the following Federally listed fish and mussel species:

Erimystax cahni | Slender chub.
Etheostoma chienense | Relict darter.
Etheostoma percnurum | Duskytail darter.
Hybopsis monacha | Spotfin chub.
Notropis albizonatus | Palezone shiner.
Phoxinus cumberlandensis | Blackside dace.
Noturus flavipinnis | Yellowfin madtom.
Noturus stanauli | Pygmy madtom.
Scaphirhynchus albus | Pallid sturgeon.
Alasmidonta atropurpurea | Cumberland elktoe.
Cyprogenia stegaria | Fanshell.
Dromus dromas | Dromedary pearlymussel.
Epioblasma brevidens | Cumberland combshell.
Epioblasma capsaeformis | Oyster mussel.
Epioblasma obliquata obliquata | Purple cat's paw.
Epioblasma torulosa rangiana | Northern riffleshell.
Lampsilis orbiculata (=l. abrupta) | Pink mucket.
Obovaria retusa | Ring pink.
Pegias fibula | Littlewing pearlymussel.
Plethobasus cooperianus | Orangefoot pimpleback.
Pleurobema clava | Clubshell.
Pleurobema gibberum | Cumberland pigtoe.
Pleurobema plenum | Rough pigtoe.
Potamilus capax | Fat pocketbook.
Quadrula intermedia | Cumberland monkeyface.
Villosa perpurpurea | Purple bean.
Villosa trabilis | Cumberland bean.

Activities are proposed throughout the range of the species in Alabama, Florida, Georgia, Illinois, Indiana, Iowa, Kentucky, Michigan, Mississippi, Missouri, North Carolina, Ohio, South Carolina, and Tennessee. Proposed activities are for the enhancement of survival of the species in the wild through surveys to document presence/absence of the species, population monitoring, and evaluation of potential impacts to the species.

Permit Application Number: TE839763

Applicant: John O. Whitaker, Indiana State University, Terre Haute, IN

The applicant requests a permit renewal to take (capture and release) Indiana bats and gray bats throughout the range of the species. Proposed activities are for scientific research aimed at recovery of the species and enhancement of survival in the wild.

Permit Application Number: TE106220

Applicant: Brianne L. Walters, Indiana State University, Terre Haute, IN

The applicant requests a permit renewal to take (capture and release) Indiana bats within the States of Illinois, Indiana, and Ohio. Proposed activities are for scientific research aimed at recovery of the species and enhancement of survival in the wild.

Permit Application Number: TE151109

Applicant: Ohio Department of Natural Resources, Division of Wildlife, Columbus, OH

The applicant requests a permit renewal, with amendments, to take American burying beetles in the State of Ohio. Proposed activities are for the conservation and recovery of the species, including population monitoring, habitat management, captive breeding, and release to the wild.

Permit Application Number: TE042946

Applicant: Southern Illinois University Carbondale, James M. Garvey, P.I., Carbondale, IL

The applicant requests a permit renewal to take (capture and release) pallid sturgeon within the Mississippi River from St. Louis, Missouri, to the mouth of the Ohio River. Proposed activities are for the recovery and survival of the species in the wild.

Permit Application Number: TE10891A

Applicant: Illinois State Museum Research and Collection Center, Dr. Everett Cashatt, P.I., Springfield, IL

The applicant requests a permit amendment to add certain activities to an existing permit for the Hine's emerald dragonfly (Somatochlora hineana) to estimate population size in the interest of recovery of the species.

Permit Application Number: TE182436

Applicant: Illinois Natural History Survey, Champaign, IL

The applicant requests a permit renewal to take (capture and release) the Indiana bat throughout Illinois. Proposed activities are for the documentation of species presence and habitat use, population monitoring, and evaluation of impacts to enhance recovery and survival of the species in the wild.

Permit Application Number: TE38835A

Applicant: Land Conservancy of West Michigan, Grand Rapids, MI

The applicant requests a permit renewal to take (harass/harm) the Karner blue butterfly (Lycaeides melissa samuelis) in the context of habitat management to benefit the species in Kent County, Michigan. Proposed activities include management and monitoring of the species in the interest of conservation and recovery.

Permit Application Number: TE174388

Applicant: Metroparks of the Toledo Area, Toledo, OH

The applicant requests a permit renewal to take (harass/harm) the Karner blue butterfly in the context of habitat management to benefit the species within the properties owned and managed by Metroparks of the Toledo Area in Ohio. Proposed activities include management and monitoring of the species in the interest of conservation and recovery.

Permit Application Number: TE088720

Applicant: George T. Watters, Ohio State University, Columbus, OH

The applicant requests a permit renewal to take (capture, sample and release; propagate and release) Federally endangered mussels within the States of Illinois, Indiana, Kentucky, Michigan, Ohio, Pennsylvania, and West Virginia. Proposed activities are for scientific research in the interest of species recovery and for enhancement of populations through captive propagation and release.

Permit Application Number: TE38821A

Applicant: Stantec Consulting Services, Louisville, KY

The applicant requests a permit renewal to take (capture and release) the Indiana bat, gray bat, Virginia big-eared bat, Ozark big-eared bat, Federally listed mussels, and Copperbelly watersnake (Nerodia erythrogaster neglecta) throughout Alabama, Arkansas, Connecticut, Delaware, Illinois, Indiana, Iowa, Maryland, Massachusetts, Michigan, Mississippi, Missouri, New Hampshire, New Jersey, New York, North Carolina, Ohio, Pennsylvania, Rhode Island, South Carolina, Tennessee, Vermont, Virginia, and West Virginia. Proposed activities are for the documentation of presence/probable absence of the species and documentation of habitat use to enhance the recovery and survival of the species in the wild.

Permit Application Number: TE38862A

Applicant: George R. Cunningham, Omaha, NE

The applicant requests a permit renewal to take (capture and release) the Topeka shiner (Notropis topeka) within the States of Iowa, Kansas, Minnesota, Missouri, Nebraska, and South Dakota. Proposed activities are for the purpose of presence/absence determination and population monitoring to enhance the recovery and survival of the species in the wild.

Permit Application Number: TE839777

Applicant: Don R. Helms, Helms & Associates, Bellevue, IA

The applicant requests a permit renewal to take (capture and release; capture and relocate) endangered mussels throughout the States of Illinois, Indiana, Iowa, Michigan, Minnesota, Missouri, Ohio, and Wisconsin. The following mussel species are included in the requested permit renewal: Clubshell, fanshell, fat pocketbook, Higgins' eye pearlymussel (Lampsilis higginsii), northern riffleshell, orangefoot pimpleback, pink mucket pearlymussel, purple cat's paw pearlymussel, rayed bean (Villosa fabalis), ring pink (Obovaria retusa), rough pigtoe, scaleshell (Leptodea leptodon), snuffbox (Epioblasma triquetra), sheepnose (Plethobasus cyphyus), spectaclecase (Cumberlandia monodonta), white cat's paw pearlymussel (Epioblasma obliquata perobliqua), and winged mapleleaf (Quadrula fragosa). Proposed activities are for the recovery and enhancement of survival of the species in the wild.

Permit Application Number: TE38837A

Applicant: Cardno JFNew, Walkerton, IN

The applicant requests a permit renewal to take (capture and release) Indiana bats, gray bats, and Virginia big-eared bats throughout the range of the species. Proposed activities are for the enhancement of recovery and survival of the species in the wild.

Permit Application Number: TE38793A

Applicant: Kenneth S. Mierzwa, Eureka, CA

The applicant requests a permit renewal, with amendments, to take the Hine's emerald dragonfly throughout the range of the species, including Alabama, Illinois, Indiana, Michigan, Missouri, Ohio, and Wisconsin. Proposed activities are for the enhancement of recovery and survival of the species in the wild.

Permit Application Number: TE02365A

Applicant: Lynn W. Robbins, Southwest Missouri State University, Springfield, MO

The applicant requests a permit renewal to take (capture, sample, and release) Indiana bats, gray bats, and Ozark big-eared bats throughout the range of the species in the States of Arkansas, Iowa, Kansas, Missouri, Nebraska, and Ohio. Proposed activities are for scientific research, documentation of presence/probable absence of the species, and documentation of habitat use to enhance the recovery and survival of the species in the wild.

Permit Application Number: TE06822A

Applicant: Upper Peninsula Land Conservancy, Marquette, MI

The applicant requests a permit renewal to take Piping Plover (Charadrius melodus) within Michigan's Upper Peninsula. Proposed activities involve protection of nests and adults, collection, and participating in captive rearing/release in accordance with USFWS protocols. Activities proposed are for the recovery of the species in the wild.

Permit Application Number: TE106217

Applicant: Toledo Zoological Society, Toledo, OH

The applicant requests a permit renewal to take (capture and hold) Mitchell's satyr butterflies (Neonympha mitchelli mitchelli) for captive propagation and release into the wild. Activities are proposed in the interest of conservation and recovery of the species and enhancement of the survival of the species in the wild.

Permit Application Number: TE43541A

Applicant: Dr. Francesca Cuthbert, University of Minnesota, St. Paul, MN

The applicant requests a permit renewal to take (capture and release; capture and rear) piping plover in Michigan and Wisconsin. The research entails capture and marking of piping plovers, erecting nesting exclosures to improve nesting success, salvaging orphaned eggs and nestlings, and captive rearing and release. Proposed activities are for the enhancement and recovery of the species in the wild.

Permit Application Number: TE94321A

Applicant: Brian J. O'Neill, Deerfield, IL

The applicant requests a permit to take (capture and release) the following listed species throughout their range, within the States of Kentucky, Illinois, Indiana, Iowa, Minnesota, Missouri, Ohio, Pennsylvania, Tennessee, West Virginia, and Wisconsin: Palezone shiner, blackside dace, relict darter, tuxedo darter (Etheostoma lemniscatum), cumberland darter (Etheostoma susanae), scioto madtom (Noturus trautmani), pallid sturgeon, cumberland elktoe, fanshell, dromedary pearlymussel, cumberland combshell, oyster mussel, tan riffleshell (Epioblasma florentina walkeri), Purple cat's paw, White cat's paw, northern riffleshell, tubercled blossom (Epioblasma torulosa torulosa), cracking pearlymussel (Hemistena lata), pink mucket, Higgins' eye pearlymussel, scaleshell, ring pink, littlewing pearlymussel, white wartyback (Plethobasus cicatricosus), orangefoot pimpleback, clubshell, rough pigtoe, fat pocketbook, winged mapleleaf, cumberland bean, sheepnose, snuffbox, spectaclecase, and rayed bean. Proposed activities are for the recovery and enhancement of survival of the species in the wild.

Permit Application Number: TE207523

Applicant: The Nature Conservancy—Michigan Chapter, Lansing, MI

The applicant requests a permit renewal to take (harass/harm through habitat management; census and monitoring) Mitchell's satyr butterflies (Neonympha mitchellii mitchellii), Karner blue butterflies, and Pitcher's thistle (Cirsium pitcheri) within the State of Michigan. Proposed activities are for the conservation and recovery of the species through habitat management.

Permit Application Number: TE94330A

Applicant: Robert A. Krebs, Cleveland Heights, OH

The applicant requests a permit to take (capture and release) snuffbox, rayed bean, purple cat's paw, clubshell, northern riffleshell, fanshell, pink mucket, sheepnose, and rabbitsfoot (Quadrula cylindrica cylindrica) throughout the State of Ohio. Proposed activities are for the recovery and enhancement of survival of the species in the wild.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: January 18, 2013.
Lynn M. Lewis,
Assistant Regional Director, Ecological Services, Midwest Region.

[FR Doc. 2013-01575 Filed 1-24-13; 8:45 am]

BILLING CODE 4310-55-P